DEPARTMENT OF TRANSPORTATION

Office of the Secretary

[DOT-OST-2018-0206]

Air Ambulance and Patient Billing Advisory Committee; Notice of Public Meeting

AGENCY: Office of the Secretary, Department of Transportation.

ACTION: Notice of public meeting.

SUMMARY: This notice announces a meeting of the Air Ambulance and Patient Billing Advisory Committee (AAPB Advisory Committee).

DATES: The meeting will be held on January 15, 2020, from 9:30 a.m. to 5:00 p.m., and on January 16, 2020, from 9:00 a.m. to 4:00 p.m. Requests to speak during the meeting must be received by January 8, 2020. Requests to attend the meeting must be received by January 13, 2020. Requests for accommodations of a disability must be received by January 13, 2020.

FOR FURTHER INFORMATION CONTACT: Robert Gorman, Senior Trial Attorney, Office of Aviation Enforcement and Proceedings, U.S. Department of Transportation (DOT), at robert.gorman@dot.gov or 202-366-9350. Any committee-related request should be sent to the person listed in this section.

ADDRESSES: The meeting will be held at the DOT Headquarters at 1200 New Jersey Avenue SE, Washington, DC 20590. Copies of the meeting minutes will be available at https://www.regulations.gov. After entering the docket number (DOT-OST-2018-0206), click on the link to “Open Docket Folder” and choose the document to review. Written materials may be submitted to this docket. If you do not have access to the internet, you may view the docket by visiting the Docket Management Facility in Room W12-140 on the ground floor of the DOT's West Building, 1200 New Jersey Avenue SE, Washington, DC 20590, between 9 a.m. and 5 p.m., E.T., Monday through Friday, except Federal holidays.

SUPPLEMENTARY INFORMATION:

I. Background

The AAPB Advisory Committee was created under the Federal Advisory Committee Act (FACA), in accordance with Section 418 of the FAA Reauthorization Act of 2018, to review options to improve the disclosure of charges and fees for air medical services, better inform consumers of insurance options for such services, and protect consumers from balance billing.

II. Agenda

The first meeting of the AAPB Advisory Committee is designed to gather foundational background information on the air ambulance industry, insurance and billing practices, and consumer issues such as disclosure of fees and balance billing. At the meeting, the agenda will cover the following topics:

• Overview of the air ambulance industry;

• Air ambulance costs and billing;

• Insurance and air ambulance payment systems; and

• Disclosure and separation of charges, cost shifting, and balance billing.

III. Public Participation

The meeting will be open to the public on a first-come, first served basis. As space is limited and access to the DOT Headquarters building is controlled for security purposes, members of the public who wish to attend in person must RSVP to the person listed in the FOR FURTHER INFORMATION CONTACT section with your name and affiliation. The U.S. Department of Transportation is committed to providing equal access to this meeting for all participants. If you need alternative formats or services because of a disability, such as sign language, interpretation, or other ancillary aids, please contact the person listed in the FOR FURTHER INFORMATION CONTACT section.

Oral comments from members of the public joining the meeting may be allowed if time permits. The time for each commenter may be limited. Individuals wishing to reserve speaking time during the meeting must submit a request at the time of registration, as well as the name, address, and organizational affiliation of the proposed speaker. Speakers are requested to submit a written copy of their prepared remarks for inclusion in the meeting records and for circulation to AAPB Advisory Committee members. Any member of the public may submit a written statement to the committee through the docket at any time.

Issued this 19th day of December, 2019, in Washington, DC.
Blane A. Workie,
Assistant General Counsel for Aviation Enforcement and Proceedings, U.S. Department of Transportation.

[FR Doc. 2019-27943 Filed 12-27-19; 8:45 am]

BILLING CODE 4910-9X-P